FEDERAL COMMUNICATIONS COMMISSION

47 CFR Part 97

[WT Docket No. 05-235; FCC 05-143]

Amateur Service Rules

AGENCY: Federal Communications Commission.

ACTION: Proposed rule.

SUMMARY: This document proposes to amend the amateur radio service rules to eliminate the requirement that individuals pass a telegraphy examination in order to qualify for any amateur radio operator license.

DATES: Submit comments on or before October 31, 2005 and reply comments are due November 14, 2005.

ADDRESSES: You may submit comments, identified by WT Docket No. 05-235; FCC 05-143, by any of the following methods:

• Federal eRulemaking Portal: http://www.regulations.gov. Follow the instructions for submitting comments.

• Federal Communications Commission's Web site: http://www.fcc.gov/cgb/ecfs/. Follow the instructions for submitting comments.

• People with Disabilities: Contact the FCC to request reasonable accommodations (accessible format documents, sign language interpreters, CART, etc.) by e-mail: FCC504@fcc.gov or phone (202) 418-0530 or TTY: (202) 418-0432.

For detailed instructions for submitting comments and additional information on the rulemaking process, see the SUPPLEMENTARY INFORMATION section of this document.

FOR FURTHER INFORMATION CONTACT: William T. Cross, William.Cross@fcc.gov, Public Safety and Critical Infrastructure Division, Wireless Telecommunications Bureau, (202) 418-0680, TTY (202) 418-7233.

SUPPLEMENTARY INFORMATION: This is a summary of the Federal Communications Commission's Notice of Proposed Rulemaking and Order (NPRM), WT Docket No. 05-235, FCC 05-143, adopted July 15, 2005, and released July 19, 2005. The full text of this document is available for inspection and copying during normal business hours in the FCC Reference Center, 445 12th Street SW., Room CY-A257, Washington, DC 20554. The complete text may be purchased from the Commission's duplicating contractor, Best Copy and Printing, Inc., Portals II, 445 12th Street, Suite CY-B402, Washington, DC 20554. Alternative formats are available for people with disabilities (Braille, large print, electronic files, audio format), by sending an e-mail to FCC504@fcc.gov or calling the Consumer and Government Affairs Bureau at (202) 418-0530 (voice), (202) 418-0432 (TTY).

1. The Commission initiated this proceeding to amend the part 97 Amateur Radio Service rules in response to eighteen petitions for rulemaking. The petitioners request that we amend the Commission's amateur radio service rules to implement revised international Radio Regulations that were adopted at the 2003 World Radiocommunication Conference (WRC-03). The Commission found that some of the petitions have presented sufficient evidence to warrant proposing rule changes, and in the interest of administrative efficiency, it consolidated these proposals in this NPRM. Specifically, the Commission proposed to amend its amateur service rules to eliminate the requirement that individuals pass a telegraphy examination in order to qualify for any amateur radio operator license.

I. Procedural Matters

A. Ex Parte Rules—Permit-but-Disclose Proceeding

2. This is a permit-but-disclose notice and comment rulemaking proceeding. Ex parte presentations are permitted, except during the Sunshine Agenda period, provided they are disclosed as provided in the Commission's rules.

B. Comment Dates

3. Pursuant to §§ 1.415 and 1.419 of the Commission's rules, interested parties may file comments on or before October 31, 2005, and reply comments are due November 14, 2005.

4. Commenters may file comments electronically using the Commission's Electronic Comment Filing System (ECFS), the Federal Government's eRulemaking Portal, or by filing paper copies. Commenters filing through the ECFS can be sent as an electronic file via the Internet to http://www.fcc.gov/e-file/ecfs.html. If multiple docket or rulemaking numbers appear in the caption of this proceeding, filers must transmit one electronic copy for each docket or rulemaking number referenced in the caption. In completing the transmittal screen, commenters should include their full name, U.S. Postal Service mailing address, and the applicable docket or rulemaking number. Commenters may also submit an electronic comment by Internet e-mail. To get filing instructions for e-mail comments, commenters should send an e-mail to ecfs@fcc.gov, and should include the following words in the body of the message, “get form.” Commenters will receive a sample form and directions in reply. Commenters filing through the Federal eRulemaking Portal http://www.regulations.gov, should follow the instructions provided on the Web site for submitting comments.

5. Commenters who chose to file paper comments must file an original and four copies of each comment. If more than one docket or rulemaking number appears in the caption of this proceeding, filers must submit two additional copies for each additional docket or rulemaking number. All filings must be sent to the Commission's Secretary, Office of the Secretary, Federal Communications Commission, 445 12th Street, SW., Room TW-A325, Washington, DC 20554.

6. Commenters may send filings by hand or messenger delivery, by commercial overnight courier, or by first-class or overnight U.S. Postal Service mail. The Commission's contractor will receive hand-delivered or messenger-delivered paper filings for the Commission's Secretary at 236 Massachusetts Avenue, NE., Suite 110, Washington, DC 20002. The filing hours at this location are 8 a.m. to 7 p.m. Commenters must bind all hand deliveries together with rubber bands or fasteners and must dispose of any envelopes before entering the building. This facility is the only location where the Commission's Secretary will accept hand-delivered or messenger-delivered paper filings. Commenters must send commercial overnight mail (other than U.S. Postal Service Express Mail and Priority Mail) to 9300 East Hampton Drive, Capitol Heights, MD 20743. Commenters should address U.S. Postal Service first-class mail, Express Mail, and Priority Mail to 445 12th Street, SW., Washington, DC 20554.

C. Paperwork Reduction Act

7. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

II. Initial Regulatory Flexibility Analysis

8. The Regulatory Flexibility Act requires an initial regulatory flexibility analysis to be prepared for notice and comment rulemaking proceedings, unless the agency certifies that “the rule will not, if promulgated, have a significant economic impact on a substantial number of small entities.” The RFA generally defines the term “small entity” as having the same meaning as the terms “small business,” “small organization,” and “small governmental jurisdiction.” In addition, the term “small business” has the same meaning as the term “small business concern” under the Small Business Act. A “small business concern” is one which: (1) Is independently owned and operated; (2) is not dominant in its field of operation; and (3) satisfies any additional criteria established by the Small Business Administration (SBA).

9. In this NPRM, we propose to amend the amateur service rules that presently require a person to demonstrate his or her ability to send and receive correctly a Morse code telegraphy message in order to qualify for certain amateur service operator licenses. Because “small entities,” as defined in the RFA, are not persons eligible for licensing in the amateur service, this proposed rule does not apply to “small entities.” Rather, it applies exclusively to individuals who are taking an examination for an amateur radio operator license. Such amendment would be in the public interest because we believe that the present requirement is unnecessary and that eliminating the requirement would make the amateur service more attractive to individuals with a non-pecuniary interest in radio.

10. In addition, the rules proposed in this NPRM potentially could affect publishers of amateur radio examination study material. Based on past inquiries and advertisements in communication-related magazines from these publishers, we estimate that there are between five and ten such publishers. The proposed rule changes, if adopted, would apply to individuals rather than publishers and would not result in a mandatory change in products offered by publishers of examination study material. (Because use of Morse code for amateur service communications would still be permitted even if the testing requirement is eliminated, a market would still exist for Morse code training material.) Therefore, we certify that the proposals in this NPRM, if adopted, will not have a significant economic impact on a substantial number of small entities. The Commission will send a copy of the NPRM, including a copy of this Initial Regulatory Flexibility Certification, to the Chief Counsel for Advocacy of the SBA. This initial certification will also be published in the Federal Register.

III. Ordering Clauses

11. The Commission's Consumer and Governmental Affairs Bureau, Reference Information Center, shall send a copy of this Notice of Proposed Rulemaking and Order, including the Initial Regulatory Flexibility Certification, to the Chief Counsel for Advocacy of the Small Business Administration.

List of Subjects in 47 CFR Part 97

Communications equipment, Radio.

Federal Communications Commission.
William F. Caton,
Deputy Secretary.

Proposed Rules

For the reasons discussed in the preamble, the Federal Communications Commission proposes to amend 47 CFR part 97 as follows:

PART 97—AMATEUR RADIO SERVICE

1. The authority citation for part 97 continues to read as follows:

Authority: 48 Stat. 1066, 1082, as amended; 47 U.S.C. 154, 303. Interpret or apply 48 Stat. 1064-1068, 1081-1105, as amended; 47 U.S.C. 151-155, 301-609, unless otherwise noted.

2. Section 97.501 is amended by revising paragraphs (a) and (b) to read as follows:

§ 97.501 Qualifying for an amateur operator license.

* * * * *

(a) Amateur Extra Class operator: Elements 2, 3, and 4;

(b) General Class operator: Elements 2 and 3;

* * * * *

§ 97.503 [Amended]

3. Section 97.503 is amended by removing paragraph (a), redesignating paragraph (b) as an undesignated introductory paragraph, and redesignating paragraphs (b)(1) through (3) as paragraphs (a) through (c), respectively.

4. Section 97.505 is amended by removing paragraphs (a)(5) and (a)(7) through (9), redesignating paragraph (a)(6) as (a)(5), and revising paragraphs (a)(1) through (4) to read as follows:

§ 97.505 Element credit.

(a) * * *

(1) An unexpired (or expired but within the grace period for renewal) FCC-granted Advanced Class operator license grant: Elements 2 and 3.

(2) An unexpired (or expired but within the grace period for renewal) FCC-granted General Class operator license grant: Elements 2 and 3.

(3) An unexpired (or expired but within the grace period for renewal) FCC-granted Technician or Technician Plus Class operator (including a Technician Class operator license granted before February 14, 1991) license grant: Element 2.

(4) An expired FCC-issued Technician Class operator license document granted before March 21, 1987: Element 3.

* * * * *

5. Section 97.507 is amended by removing paragraph (d) and revising paragraphs (a) introductory text, (a)(2) and (c) to read as follows:

§ 97.507 Preparing an examination.

(a) Each written question set administered to an examinee must be prepared by a VE holding an Amateur Extra Class operator license. A written question set may also be prepared for the following elements by a VE holding an operator license of the class indicated:

* * * * *

(2) Element 2: Advanced, General, or Technician Plus Class operators.

* * * * *

(c) Each written question set administered to an examinee for an amateur operator license must be prepared, or obtained from a supplier, by the administering VEs according to instructions from the coordinating VEC.

6. Section 97.509 is amended by revising paragraph (f), removing paragraph (g), redesignating paragraphs (h) through (m) as paragraphs (g) through (l) respectively, to read as follows:

§ 97.509 Administering VE requirements.

* * * * *

(f) No examination that has been compromised shall be administered to any examinee. The same question set may not be re-administered to the same examinee.

* * * * *

[FR Doc. 05-17226 Filed 8-30-05; 8:45 am]

BILLING CODE 6712-01-P